DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground ‸ Elevation in meters (MSL) modified | Communities affected
Middlesex County, Connecticut (All Jurisdictions)
Docket No.: FEMA-B-1232
Long Island Sound | Approximately 1,000 feet south of the intersection of U.S. Route 1 and Chapman Beach Drive | +10 | Borough of Fenwick, Town of Clinton, Town of Old Saybrook, Town of Westbrook.
| Approximately 400 feet southeast of the intersection of Hartlands Drive and Sea Lane No. 1 | +24
* National Geodetic Vertical Datum.
+ North American Vertical Datum.
# Depth in feet above ground.
‸ Mean Sea Level, rounded to the nearest 0.1 meter.
ADDRESSES
Borough of Fenwick
Maps are available for inspection at the Fenwick Borough Municipal Office, 580 Maple Avenue, Old Saybrook, CT 06475.
Town of Clinton
Maps are available for inspection at the Town Hall, 54 East Main Street, Clinton, CT 06413.
Town of Old Saybrook
Maps are available for inspection at the Town Hall, 302 Main Street, Old Saybrook, CT 06475.
Town of Westbrook Maps are available for inspection at the Town Hall, 866 Boston Post Road, Westbrook, CT 06498.
Larimer County, Colorado, and Incorporated Areas
Docket No.: FEMA-B-1226
Little Thompson River | At the downstream side of Weld County Road 1 | +4935 | Town of Berthoud, Unincorporated Areas of Larimer County.
| Approximately 0.38 mile upstream of Little Thompson Drive | +5093
Little Thompson River-Spill Reach | Approximately 285 feet upstream of the Little Thompson River confluence | +5009 | Unincorporated Areas of Larimer County.
| Approximately 1,500 feet upstream of the Little Thompson River confluence | +5015
* National Geodetic Vertical Datum.
+ North American Vertical Datum.
# Depth in feet above ground.
‸ Mean Sea Level, rounded to the nearest 0.1 meter.
ADDRESSES
Town of Berthoud
Maps are available for inspection at 935 10th Street, Berthoud, CO 80513.
Unincorporated Areas of Larimer County
Maps are available for inspection at 200 West Oak Street, 2nd Floor, Fort Collins, CO 80522.
Coweta County, Georgia, and Incorporated Areas
Docket No.: FEMA-B-1233
Chattahoochee River | Approximately 1,850 feet downstream of the Heard County boundary | +686 | Unincorporated Areas of Coweta County.
| Approximately 4.1 miles upstream of the Cedar Creek confluence | +720
Little Wahoo Creek | Approximately 150 feet upstream of the Wahoo Creek confluence | +799 | Unincorporated Areas of Coweta County.
| Approximately 1.49 miles upstream of Fast Guard Farms | +869
Snake Creek | At the Wahoo Creek confluence | +799 | City of Newnan, Unincorporated Areas of Coweta County.
| Approximately 0.5 mile upstream of Dixon Street | +927
Tributary 1 to Snake Creek | At the Snake Creek confluence | +875 | City of Newnan.
| Approximately 1,125 feet upstream of Pickens Drive | +897
Tributary 1 to Wahoo Creek | At the Wahoo Creek confluence | +842 | City of Newnan, Unincorporated Areas of Coweta County.
| Approximately 400 feet upstream of Wood Trail | +941
Tributary 10 to Wahoo Creek | At the Wahoo Creek confluence | +880 | City of Newnan.
| Approximately 0.63 mile upstream of the Wahoo Creek confluence | +934
Tributary 11 to Wahoo Creek | At the Wahoo Creek confluence | +881 | City of Newnan.
| Approximately 1,400 feet upstream of Roberts Road | +906
Tributary 12 to Wahoo Creek | At the Wahoo Creek confluence | +897 | City of Newnan.
| Approximately 600 feet upstream of Dewey Street | +944
Tributary 2 to Snake Creek | At the Snake Creek confluence | +892 | City of Newnan.
| Approximately 700 feet upstream of Maple Drive | +928
Tributary 2 to Wahoo Creek | At the Wahoo Creek confluence | +860 | City of Newnan, Unincorporated Areas of Coweta County.
| Approximately 1,200 feet upstream of Jefferson Street | +920
Tributary 3 to Wahoo Creek | At the Tributary 2 to Wahoo Creek confluence | +868 | City of Newnan.
| At the upstream side of Matador Way | +885
Tributary 4 to Wahoo Creek | At the Tributary 3 to Wahoo Creek confluence | +871 | City of Newnan.
| Approximately 360 feet upstream of the detention pond | +885
Tributary 5 to Wahoo Creek | At the Tributary 2 to Wahoo Creek confluence | +879 | City of Newnan.
| Approximately 580 feet upstream of the Tributary 2 to Wahoo Creek confluence | +888
Tributary 6 to Wahoo Creek | Approximately 210 feet upstream of the Tributary 2 to Wahoo Creek confluence | +882 | City of Newnan.
| Approximately 140 feet upstream of Ashley Park Drive | +897
Tributary 7 to Wahoo Creek | At the Wahoo Creek confluence | +860 | City of Newnan, Unincorporated Areas of Coweta County.
| Approximately 1,650 feet upstream of Marathon Street | +898
Tributary 8 to Wahoo Creek | At the Wahoo Creek confluence | +861 | City of Newnan.
| Approximately 0.41 mile upstream of the Wahoo Creek confluence | +899
Tributary 9 to Wahoo Creek | At the Wahoo Creek confluence | +874 | City of Newnan.
| Approximately 1,800 feet upstream of the Wahoo Creek confluence | +905
Wahoo Creek | At the Chattahoochee River confluence | +701 | City of Newnan, Unincorporated Areas of Coweta County.
| Approximately 960 feet upstream of Paul Street | +945
* National Geodetic Vertical Datum.
+ North American Vertical Datum.
# Depth in feet above ground.
‸ Mean Sea Level, rounded to the nearest 0.1 meter.
ADDRESSES
City of Newnan
Maps are available for inspection at the Public Works Department, 25 LaGrange Street, Newnan, GA 30263.
Unincorporated Areas of Coweta County
Maps are available for inspection at the Coweta County Development and Engineering Department, 21 East Washington Street, Newnan, GA 30263.
Darlington County, South Carolina, and Incorporated Areas
Docket No.: FEMA-B-1145
Beaverdam Creek | At the confluence with Black Creek | +178 | Unincorporated Areas of Darlington County.
| Approximately 0.7 mile upstream of Bobo Newsom Highway | +189
Black Creek (DS) | Approximately 0.5 mile downstream of Muses Bridge Road | +77 | City of Darlington, Unincorporated Areas of Darlington County.
| Just downstream of Society Hill Road | +102
Black Creek | Approximately 1.4 mile downstream of Patrick Highway | +158 | City of Hartsville, Unincorporated Areas of Darlington County.
| Approximately 0.5 mile downstream of New Market Road | +178
Black Creek (US) | Approximately 1,148 feet downstream of West Old Camden Road | +189 | Unincorporated Areas of Darlington County.
| Approximately 2.6 miles upstream of West Old Camden Road | +221
Black Creek Tributary 1 | At the confluence with Black Creek | +85 | Unincorporated Areas of Darlington County.
| Approximately 0.5 mile upstream of the confluence with Black Creek | +86
Great Pee Dee River | Approximately 927 feet downstream of North Main Street | +82 | Unincorporated Areas of Darlington County.
| At the confluence with Cedar Creek | +84
High Hill Creek | Approximately 67 feet downstream of Pisgah Road | +89 | Unincorporated Areas of Darlington County.
| Approximately 140 feet upstream of Ebenezer Road | +110
Indian Creek | At the confluence with Swift Creek | +117 | City of Darlington, Unincorporated Areas of Darlington County.
| Approximately 0.5 mile upstream of Rogers Road | +142
McCalls Branch | Approximately 1,441 feet downstream of I-20 | +166 | Unincorporated Areas of Darlington County.
| Approximately 364 feet upstream of Buck Reynolds Road | +176
Newman Swamp | Approximately 445 feet downstream of Zion Road | +149 | Town of Lamar, Unincorporated Areas of Darlington County.
| Approximately 1,860 feet upstream of Lamar Highway | +152
Spring Branch | At the confluence with Black Creek | +159 | Unincorporated Areas of Darlington County.
| Approximately 0.9 mile upstream of North 5th Street | +187
Star Fork Branch | At the confluence with High Hill Creek | +103 | Unincorporated Areas of Darlington County.
| Approximately 325 feet upstream of Ebenezer Road | +114
Star Fork Branch Tributary 1 | At the confluence with Star Fork Branch | +103 | Unincorporated Areas of Darlington County.
| Approximately 733 feet downstream of Ebenezer Road | +120
* National Geodetic Vertical Datum.
+ North American Vertical Datum.
# Depth in feet above ground.
‸ Mean Sea Level, rounded to the nearest 0.1 meter.
ADDRESSES
City of Darlington
Maps are available for inspection at 400 Pearl Street, Darlington, SC 29532.
City of Hartsville
Maps are available for inspection at 133 West Carolina Avenue, Hartsville, SC 29551.
Town of Lamar
Maps are available for inspection at 117 Main Street, Lamar, SC 29069.
Unincorporated Areas of Darlington County
Maps are available for inspection at 1 Public Square, Room 405, Darlington, SC 29532.
Lake County, Montana, and Incorporated Areas
Docket No.: FEMA-B-1233
Dayton Creek | Approximately 1,100 feet downstream of U.S. Route 93 | +2897 | Unincorporated Areas of Lake County.
| Approximately 1,930 feet upstream of Big Meadows Road | +3196
Johnson Creek | At the upstream side of Private Drive | +3078 | Unincorporated Areas of Lake County.
| Approximately 1.25 miles upstream of Private Drive | +4010
Johnson Creek Overflow (Kelley Drive) | Approximately 840 feet downstream of Sunburst Drive | +3082 | Unincorporated Areas of Lake County.
| Approximately 1,880 feet upstream of Sunburst Drive | +3116
Lower Mission Creek | At the Post Creek confluence | +2658 | Unincorporated Areas of Lake County.
| Approximately 1.67 miles upstream of Old Freight Road | +2815
Post Creek | Approximately 1.87 miles downstream of Old Freight Road | +2658 | Unincorporated Areas of Lake County.
| Approximately 670 feet upstream of Fish Hatchery Road | +2735
Swan Lake | Entire shoreline | +3078 | Unincorporated Areas of Lake County.
Upper Mission Creek | Approximately 90 feet upstream of U.S. Route 20 | +2883 | Town of Saint Ignatius, Unincorporated Areas of Lake County.
| Approximately 0.74 mile upstream of Foothills Road | +3311
* National Geodetic Vertical Datum.
+ North American Vertical Datum.
# Depth in feet above ground.
‸ Mean Sea Level, rounded to the nearest 0.1 meter.
ADDRESSES
Town of Saint Ignatius
Maps are available for inspection at 12 1st Avenue, Saint Ignatius, MT 59865.
Unincorporated Areas of Lake County
Maps are available for inspection at 106 4th Avenue East, Polson, MT 59860.
Shelby County, Tennessee, and Incorporated Areas
Docket No.: FEMA-B-1192
Fletcher Creek | Approximately 100 feet upstream of Bartlett Road | +245 | City of Memphis, Unincorporated Areas of Shelby County.
| Approximately 150 feet upstream of Back Nine Drive | +366
Howard Creek | Approximately 1,310 feet downstream of Old Brownsville Road | +247 | City of Bartlett, Unincorporated Areas of Shelby County.
| Approximately 1,115 feet upstream of Billy Maher Road | +256
Ivy Creek | Approximately 650 feet upstream of CSX railroad | +261 | City of Lakeland
| At the upstream side of Memphis Arlington Road. | +295
Loosahatchie River Lateral A | Approximately 200 feet downstream of Gulf Stream Road | +267 | Township of Arlington.
| At the upstream side of Memphis Arlington Road | +281
Loosahatchie River Lateral CA | At the Loosahatchie River Lateral C confluence | +275 | Township of Arlington.
| Approximately 0.3 mile upstream of Forrest Street | +294
North Fork Creek Lateral A | Approximately 0.8 mile upstream of the North Fork Creek confluence | +275 | City of Millington, Unincorporated Areas of Shelby County.
| At the upstream side of Sullivan Road | +320
Wolf Creek Lateral F | Approximately 125 feet upstream of Wolf River Boulevard | +274 | City of Germantown.
| At the upstream side of Johnson Road | +337
Wolf River Lateral C | Approximately 645 feet upstream of the Wolf River Lateral CA confluence | +272 | City of Germantown.
| Approximately 130 feet upstream of Woodruff Drive | +311
Wolf River Lateral G | Approximately 0.4 mile upstream of the Wolf River confluence | +272 | City of Germantown, Town of Collierville.
| Approximately 0.5 mile upstream of Fox Hill East Circle | +323
Wolf River Lateral H | Approximately 0.3 mile downstream of Wolf River Boulevard | +280 | Town of Collierville, Unincorporated Areas of Shelby County.
| Approximately 140 feet downstream of State Highway 72 | +325
Wolf River Lateral J | Approximately 0.4 mile downstream of Shelton Road East | +288 | Town of Collierville, Unincorporated Areas of Shelby County.
| Approximately 130 feet upstream of West White Road | +323
* National Geodetic Vertical Datum.
+ North American Vertical Datum.
# Depth in feet above ground.
‸ Mean Sea Level, rounded to the nearest 0.1 meter.
ADDRESSES
City of Bartlett
Maps are available for inspection at 3585 Altrurial Road, Bartlett, TN 38134.
City of Germantown
Maps are available for inspection at 1920 South Germantown Road, Germantown, TN 38138.
City of Lakeland
Maps are available for inspection at 10001 Highway 70, Lakeland, TN 38002.
City of Memphis
Maps are available for inspection at 125 North Main Street, Room 476, Memphis, TN 38103.
City of Millington
Maps are available for inspection at 7930 Nelson Street, Millington, TN 38053.
Town of Collierville
Maps are available for inspection at 500 Keough Road, Collierville, TN 38017.
Township of Arlington
Maps are available for inspection at 5854 Airline Road, Arlington, TN 38002.
Unincorporated Areas of Shelby County
Maps are available for inspection at 160 North Main Street, Suite 350, Memphis, TN 38103.

(Catalog of Federal Domestic Assistance No. 97.022, “Flood Insurance.”)

Dated: November 28, 2012.
James A. Walke,
Acting Deputy Associate Administrator for Mitigation, Department of Homeland Security, Federal Emergency Management Agency.

[FR Doc. 2012-31506 Filed 12-31-12; 8:45 am]

BILLING CODE 9110-12-P